DEPARTMENT OF THE INTERIOR

National Park Service

[NPS-WASO-NAGPRA-NPS0032426; PPWOCRADN0-PCU00RP14.R50000]

Notice of Inventory Completion: Baylor University's Mayborn Museum Complex, (Formerly Baylor University's Strecker Museum; Formerly Baylor University Museum), Waco, TX

AGENCY: National Park Service, Interior.

ACTION: Notice.

SUMMARY: Baylor University's Mayborn Museum Complex (formerly Baylor University's Strecker Museum; formerly Baylor University Museum), in consultation with the appropriate Indian Tribes or Native Hawaiian organizations, has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Baylor University's Mayborn Museum Complex. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Baylor University's Mayborn Museum Complex at the address in this notice by September 16, 2021.

ADDRESSES: Anita L. Benedict, Baylor University's Mayborn Museum Complex, One Bear Place #97154, Waco, TX 76798-7154, telephone (254) 710-4835, email anita_benedict@baylor.edu.

SUPPLEMENTARY INFORMATION: Notice is here given in accordance with the Native American Graves Protection and Repatriation Act (NAGPRA), 25 U.S.C. 3003, of the completion of an inventory of human remains and associated funerary objects under the control of Baylor University's Mayborn Museum Complex, Waco, TX. The human remains and associated funerary objects were removed from Bell, Falls, Harris, Hill, and McLennan Counties, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Baylor University's Mayborn Museum Complex professional staff in consultation with representatives of the Caddo Nation of Oklahoma; Comanche Nation, Oklahoma; Kiowa Indian Tribe of Oklahoma; Tonkawa Tribe of Indians of Oklahoma; and the Wichita and Affiliated Tribes (Wichita, Keechi, Waco, & Tawakonie), Oklahoma, hereafter referred to as “The Tribes.”

History and Description of the Remains

Sometime prior to January 9, 1990, human remains representing, at minimum, three individuals were removed from the Lake Belton Site, Bell County, TX. Remains belonging to one individual of indeterminate age and sex (AR 16317-AR 16361) were collected on an unknown date by an unknown person and were given to Tommy Thompson. On January 8, 1990, human remains belonging to two individuals of indeterminate age and sex (AR 16362-AR 16364 and AR 16374-AR 16387) were collected by Mr. Thompson. On January 8, 1990, Mr. Thompson donated the human remains of the three individuals, together with their associated funerary objects, to the Museum. No known individuals were identified. The 30 associated funerary objects are two projectile points (AR 16365, AR 16389); 15 animal remains (AR 16366-AR 16373, AR 16402-16408); one knife (AR 16388); four scrapers (AR 16390-AR 16393); four cores (AR 16394-AR 16397); and four rocks (AR 16398-AR 16401).

In June 1953, human remains representing, at minimum, two individuals were removed from a shelter along the Leon River near Bland, Bell County, TX, by James Geiselbrecht, an individual named Jones, and others, who later donated them to the Museum. The human remains belong to a female aged 27-30 years (AR 3443) and an individual of undetermined age and sex (AR 20916). No known individuals were identified. No associated funerary objects are present.

On July 22, 1984, human remains representing, at minimum, one individual were removed from the Lake Belton area, near the Leon River, Bell County, TX. The human remains and funerary object were collected by Carol A. Dorough. Ms. Dorough donated the human remains to the Museum on July 24, 1984. The human remains (AR 20800) belong to an adult male. No known individual was identified. The one associated funerary object is one lot of stone tools, shells, and an animal tooth (AR 20901).

On an unknown date, human remains representing, at minimum, one individual were removed from an unidentified site near Satin, Falls County, TX. The human remains were collected and donated to the Museum by J.M. Henshaw. The human remains (AR 4021-A-T) belong to an individual of indeterminate age and sex. No known individual was identified. No associated funerary objects are present.

On an unknown date, human remains representing, at minimum, one individual were removed from an unidentified site near La Porte, Harris County, TX, by an unknown individual. Subsequently, the remains were given to the YMCA in Waco, TX, by Mrs. Gillespie. In 1903, the human remains were donated to the Museum. The human remains (AR 20802) belong to an individual of indeterminate age and sex. No known individual was identified. No associated funerary objects are present.

On August 7, 1983, human remains representing, at minimum, one individual were removed from a location near Aquilla, Hill County, TX, by Theodore A. Urbanovsky. On August 11, 1983, the human remains were donated to the Museum. The human remains (AR 12877) belong to an individual of indeterminate age and sex. No known individual was identified. No associated funerary objects are present. (The accession record also includes a donation of bison bones (P 4718) and some charcoal (disposition unknown) from the same locality. These donated items had been found together with a flint dart point, which was not part of the donation.)

Sometime prior to 1906, human remains representing, at minimum, one individual were removed from 220 N 6th St./6th St. and Columbus Ave. in Waco, McLennan County, TX. The human remains and an associated funerary object were collected and donated by John K. Strecker. The human remains (AR 4012) belong to an individual of indeterminate age and sex. No known individual was identified. The one associated funerary object is a projectile point (AR 4040).

In the fall of 1941, human remains representing, at minimum, two individuals were removed from the Asa Warner Site #2 (41ML46) in McLennan County, TX. In September of 1941, human remains belonging to a male aged 35-40 years (AR 15403) were removed by Frank H. Watt, Clyde Webb, Sam Horne, and J.E. Hawkins. On October 19, 1941, human remains belonging to a young adult male (AR 20808) were removed by Otis Marrs, an individual named Richardson, and Frank H. Watt. On October 13, 1941, a fragmentary shell pendant (AR 20793) was collected by Marrs, Richardson, and Watt. Sometime between September of 1941 and December of 1942, a shell pendant made from a large seashell (AR 20794) was collected by an unknown person. In June of 1995, the University of Texas at Austin Texas Archeological Research Laboratory (TARL) donated the above-described items to the Museum. (Missing are remains belonging to one individual (AR 15404) collected by the TARL Field School in June of 1973 and donated to the Museum.) No known individuals were identified. The two associated funerary objects are two shell pendants (AR 20793 and AR 20794).

During the summer of 1987, human remains representing, at minimum, one individual were removed from the Braswell Property, Lorena, McLennan County, TX, by Robert Braswell and the Director of the Museum, Calvin B. Smith. The human remains (AR 20804) belong to an adult of indeterminate sex. No known individual was identified. No associated funerary objects are present.

On February 28, 1936, human remains representing, at minimum, 11 individuals were removed from the Brazos Mass Burial Site in Waco, McLennan County, TX. Dr. William P. Meroney, who was notified of the burial on February 27, 1936, collected the remains, together with Frank H. Watt and the Central Texas Archaeology Society (CTAS). On October 20, 1938, remains belonging to seven of the 11 individuals were loaned to the Museum by CTAS (AR 12771-A-GG, AR 2980-A-B, AR 3341-A-B, AR 3342-A-B, AR 4016-A-B, AR 4019-A-B, AR 4023-A-B). In 1980, Frank Watt transferred his entire collection, including the remains of two individuals, from the Brazos Mass Burial Site, to Baylor University, and named Dr. John Fox as the administrator for the collection. In 1985 and 1991, Dr. Fox donated the remains of two of the two individuals he received from Watt to the Museum (AR 12772, AR 15405). On an unknown date, an unknown person donated the remains of two additional individuals to the Museum (AR 2991, AR 12777). The human remains belong to one male aged 65 years (AR 12771-A-GG); one individual of undetermined sex aged four years (AR 12772); one male aged 60 years (AR 15405-A-C); one male aged 20 years (AR 2980-A-B); one female aged 18 years (AR 3341-A-B); one male aged 65 years (AR 3342-A-B); one female aged 25 years (AR 4016-A-B); one male aged 50 years (AR 4019-A-B); one female aged 16 years (AR 4023-A-B); one child aged seven years (AR 2991); and one individual of undetermined sex and age (AR 12777). No known individuals were identified. No associated funerary objects are present.

In April of 1972, human remains representing, at minimum, one individual were removed from an unidentified site near Cow Bayou, 10 miles southwest of Waco, in McLennan County, TX, by Bill Taylor. The human remains were donated to the Museum on January 3, 1974. The human remains (AR 12763-A-P) belong to an individual of indeterminate age and sex. No known individual was identified. No associated funerary objects are present.

On September 14, 1930, human remains representing, at minimum, one individual were removed from a gravel pit 14 miles east of Waco on the Brazos River, in McLennan County, TX, by Frank Bryce, J.M. Henshaw, and Kenneth H. Aynesworth. At an unknown date, the remains were donated to the Museum. The human remains (AR 5599-A-B) belong to an individual of indeterminate age and sex. No known individual was identified. No associated funerary objects are present.

In August of 1967, human remains representing, at minimum, one individual were removed from an Indian burial ground located along the Middle Bosque River near Crawford, in McLennan County, TX. The human remains were collected by Brent A. Brown and Jim Shumard. They were donated to the Museum on November 11, 1969. The human remains (AR 12768-A-EE) belong to an individual of indeterminate age and sex. No known individual was identified. No associated funerary objects are present.

On May 8, 1961, human remains representing, at minimum, two individuals were removed from the North Bosque River area, near China Spring, in McLennan County, TX. The human remains, along with associated funerary objects, were collected and donated to the Museum by Horace Huskerson. The human remains belong to one adult of indeterminate sex (AR 12762) and one child of indeterminate sex (AR 20902). No known individuals were identified. The six associated funerary objects are one animal femur (AR 20903), four rusted iron bracelets (AR 20904-AR 20907), and one bracelet of blue clay and white shell (AR 20908).

In August of 1963, human remains representing, at minimum, two individuals were removed from Lake Waco in Waco, McLennan County, TX. The human remains were collected by the Director of the Museum, Bryce C. Brown. Both individuals (AR 12765, AR 12766-A-V) are of indeterminate age and sex. No known individuals were identified. No associated funerary objects are present.

Sometime prior to May of 1937, human remains representing, at minimum, one individual were removed from an unidentified site near Waco, in McLennan County, TX, by an unknown person. According to Museum donation records, sand on the human remains was thought to be from the Brazos River, near Waco. The human remains were donated to the Museum by E.M. Thorpe in May of 1937. The human remains (AR 2978-A-WW) belong to a male aged 55-60 years. No known individual was identified. No associated funerary objects are present.

During the summer of 1987, human remains representing, at minimum, one individual were removed from an unidentified site south of Lorena, in McLennan County, TX. The human remains, along with associated funerary objects, were collected by the Director of the Museum, Calvin B. Smith. The human remains (AR 20812) belong to an individual of indeterminate age and sex. No known individual was identified. The one associated funerary object is one lot of animal remains (AR 20795).

Sometime prior to May 19, 1937, human remains representing, at minimum, two individuals were removed from a farm located east of Waco, in McLennan County, TX, by Treneo Ruiz. The human remains were purchased by the Museum on May 19, 1937. Both individuals (AR 12760-A-S, AR 20811) are of indeterminate age and sex. No known individuals were identified. No associated funerary objects are present.

On April 11, 1974, human remains representing, at minimum, one individual were removed from an unidentified site near Highway 6 and Tehuacana Creek, in McLennan County, TX, by Frank L. Haedage and donated to the Museum. The human remains (AR 12764-A-K) belong to an individual of indeterminate age and sex. No known individual was identified. No associated funerary objects are present.

On December 30, 1989, human remains representing, at minimum, one individual were removed from a previously disturbed burial on Trading House Creek Reservoir, in McLennan County, TX. The human remains were collected by the Director of the Museum, Calvin B. Smith. The human remains (AR 20803) belong to an individual of indeterminate age and sex. No known individual was identified. No associated funerary objects are present.

On an unknown date, human remains representing, at minimum, one individual were removed from the White Rock Gravel Pit in Waco, McLennan County, TX, by the Lattimores and donated to the Museum. The human remains (AR 4017) belong to an individual of indeterminate age and sex. No known individual was identified. No associated funerary objects are present.

Determinations Made by Baylor University's Mayborn Museum Complex

Officials of Baylor University's Mayborn Museum Complex have determined that:

• Pursuant to 25 U.S.C. 3001(9), the human remains described in this notice represent the physical remains of 38 individuals of Native American ancestry.

• Pursuant to 25 U.S.C. 3001(3)(A), the 41 objects described in this notice are reasonably believed to have been placed with or near individual human remains at the time of death or later as part of the death rite or ceremony.

• Pursuant to 25 U.S.C. 3001(2), there is a relationship of shared group identity that can be reasonably traced between the Native American human remains and associated funerary objects and The Tribes based on geographic evidence.

Additional Requestors and Disposition

Lineal descendants or representatives of any Indian Tribe or Native Hawaiian organization not identified in this notice that wish to request transfer of control of these human remains and associated funerary objects should submit a written request with information in support of the request to Anita L. Benedict, Baylor University's Mayborn Museum Complex, One Bear Place #97154, Waco, TX 76798-7154, telephone (254) 710-4835, email anita_benedict@baylor.edu, by September 16, 2021. After that date, if no additional requestors have come forward, transfer of control of the human remains and associated funerary objects to The Tribes may proceed.

Baylor University's Mayborn Museum Complex is responsible for notifying The Tribes that this notice has been published.

Dated: August 4, 2021.
Melanie O'Brien,
Manager, National NAGPRA Program.

[FR Doc. 2021-17562 Filed 8-16-21; 8:45 am]

BILLING CODE 4312-52-P